DEPARTMENT OF DEFENSE

Department of the Army, Corps of Engineers

Intent To Prepare a Draft Environmental Impact Statement (DEIS) for the C-7 (North Dade) Canal General Reevaluation Report (GRR)

AGENCY: U.S. Army Corps of Engineers, DoD.

ACTION: Notice of intent.

SUMMARY: The Jacksonville District, U.S. Army Corps of Engineers (Corps), along with the South Florida Water Management District (SFWMD), intends to prepare a Draft Environmental Impact Statement (DEIS) for the feasibility phase of the C-7 (North Dade) Canal General Reevaluation Report (GRR).

FOR FURTHER INFORMATION CONTACT: Questions about the proposed action and DEIS can be answered by: Paul Stevenson, Planning Division, U.S. Army Corps of Engineers, P.O. Box 4970, Jacksonville, Florida 32232-0019; Telephone 904-899-5049/Fax 904-232-3442.

SUPPLEMENTARY INFORMATION: a. Authorization: Construction of the C-7 (Little River) canal and associated water control structure, S-27 was authorized by the Flood Control Act of 1948, which provided for construction of the first phase of a comprehensive plan for flood control, fish and wildlife preservation, regional groundwater control, salinity control, and navigation.

The Energy and Water Development Act of 1995 authorized preparation of a GRR to review conveyance capacity of existing canal, document the quality of local maintenance, and to make recommendations for sufficient solutions to flooding problems within the C-7 drainage basins.

b. Study Area: The C-7 basin is located in northeastern Miami-Dade County, Florida; the canal and associated control structure S-27 are previously constructed Corps' projects. The C-7 basin comprises 35 square miles, and is approximately 11 miles long. The western portion of the basin lies in Area B, an area of relatively poor drainage, west of the coastal ridge, eastern Miami-Dade County. S-27 is a double gated concrete spillway located in C-7, which permits release of flood runoff and prevents over-drainage and saltwater intrusion through C-7.

S-30 is a gated concrete culvert which prevents excessive seepage losses from Water Conservation Area (WCA) -3A by permitting higher stages in the L-33 borrow canal and supplies water from L-33 borrow canal during dry periods to maintain stages and satisfy irrigation demands in the C-7 drainage basin. C-7 canal discharges into northern Biscayne Bay, at Miami.

c. Project Scope and Preliminary Alternatives: The primary objective of this project is to develop a total watershed plan, which identifies structural and/or operational modifications to the C-7 canal and the associated water management facilities, to improve flood control. While the project emphasis is to enhance flood control benefits in the project area, the GRR will also document the status and quality of maintenance on the existing project and identify environmental restoration opportunities in conjunction with proposed project modifications.

Alternatives will be developed and evaluated based on the project objectives, environmental studies, flood control feasibility, and economics. Standard Corps' programs and SWMM modeling will be used to develop hydraulic models of the existing and any proposed flood control features.

In addition to the without project and future conditions, four preliminary alternatives have been drafted which may be revised pending model results and public feedback. They include: (1) No action; (2) modifications to existing canal to increase conveyance where appropriate and possible; (3) installation of pumps to pump water eastward to tide, possibly in conjunction with canal cross-section modifications; (4) installation of pumps to pump water westward possibly in conjunction with channel modifications and a water treatment component.

d. Scoping: The scoping process as outlined by the Council on Environmental Quality will be utilized to involve Federal, State, and local agencies, affected Indian Tribes, and other interested private organizations and parties.

A Scoping letter will be sent to interested Federal, State and local agencies, interested organizations and the public, requesting their comments and concerns regarding issues they feel should be addressed in DEIS. Interested persons and organizations wishing to participate in the scoping process should contact the U.S. Army Corps of Engineers at the address above. Significant issues anticipated include concern for: maintenance of flood protection for the project area; water quality, particularly in the receiving waters of Biscayne Bay or WCA-3A; wetlands, fish and wildlife; saltwater intrusion into project canal and the groundwater and; threatened and endangered plant and animal species. Public meetings will be held over the course of the study, the exact location, dates, and times will be announced in public notices and local newspapers.

e. DEIS Preparation: It is estimated that the DEIS will be available to the public about January 2002.

Luz D. Ortiz,
Army Federal Register Liaison Officer.

[FR Doc. 01-24482 Filed 9-28-01; 8:45 am]

BILLING CODE 3710-AJ-M